DEPARTMENT OF TRANSPORTATION

Federal Aviation Administration

14 CFR Part 39

[Docket No. FAA-2017-0480; Product Identifier 2016-NM-204-AD; Amendment 39-19073; AD 2017-21-02]

RIN 2120-AA64

Airworthiness Directives; Airbus Airplanes

AGENCY: Federal Aviation Administration (FAA), Department of Transportation (DOT).

ACTION: Final rule.

SUMMARY: We are adopting a new airworthiness directive (AD) for certain Airbus Model A300 B4-600, B4-600R, and F4-600R series airplanes, and Model A300 C4-605R Variant F airplanes (collectively called Model A300-600 series airplanes); and Model A310 series airplanes. This AD was prompted by a report of cracking in the door sill area of the aft cargo door. This AD requires repetitive inspections of the aft cargo door lower torsion box area, and corrective actions if necessary. We are issuing this AD to address the unsafe condition on these products.

DATES: This AD is effective November 27, 2017.

The Director of the Federal Register approved the incorporation by reference of certain publications listed in this AD as of November 27, 2017.

ADDRESSES: For service information identified in this final rule, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Standards Branch, 1601 Lind Avenue SW., Renton, WA. For information on the availability of this material at the FAA, call 425-227-1221. It is also available on the Internet at http://www.regulations.gov by searching for and locating Docket No. FAA-2017-0480.

Examining the AD Docket

You may examine the AD docket on the Internet at http://www.regulations.gov by searching for and locating Docket No. FAA-2017-0480; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Dan Rodina, Aerospace Engineer, International Section, Transport Standards Branch, FAA, 1601 Lind Avenue SW., Renton, WA 98057-3356; telephone 425-227-2125; fax 425-227-1149.

SUPPLEMENTARY INFORMATION:

Discussion

We issued a notice of proposed rulemaking (NPRM) to amend 14 CFR part 39 by adding an AD that would apply to certain Airbus Model A300 B4-600, B4-600R, and F4-600R series airplanes, and Model A300 C4-605R Variant F airplanes (collectively called Model A300-600 series airplanes); and Model A310 series airplanes. The NPRM published in the Federal Register on May 22, 2017 (82 FR 23166) (“the NPRM”).

The European Aviation Safety Agency (EASA), which is the Technical Agent for the Member States of the European Union, has issued EASA Airworthiness Directive 2016-0241, dated December 6, 2016 (referred to after this as the Mandatory Continuing Airworthiness Information, or “the MCAI”), to correct an unsafe condition for certain Airbus Model A300 B4-600, B4-600R, and F4-600R series airplanes, and Model A300 C4-605R Variant F airplanes (collectively called Model A300-600 series airplanes); and Model A310 series airplanes. The MCAI states:

Cracks were found on in-service aeroplane post mod 5438 in the door sill area, from frame (FR) 60 to FR63, including the sill beam flag, lock fitting, door sill web and torsion door panel. Two previous cases with less crack extent were also reported.

This condition, if not detected and corrected, could lead to reduced structural integrity of the aeroplane.

To address this unsafe condition, Airbus published Inspection Service Bulletin (SB) A310-53-2139 and SB A300-53-6179 to provide inspection instructions for the affected areas. Airbus published also Airbus SB A310-53-2141 and SB A300-53-6181 to provide modification instructions.

Further analysis showed that aeroplanes pre-mod 5438, for which one or several lock fittings have been replaced by post mod 10319 lock fittings, could also be affected. Airbus published SB A310-53-2143 and SB A300-53-6185 to provide inspection instructions.

For the reason described above, this [EASA] AD requires repetitive Special Detailed Inspections (SDI) of the aft cargo door lower torsion box area and, depending on findings, accomplishment of applicable corrective action(s).

You may examine the MCAI in the AD docket on the Internet at http://www.regulations.gov by searching for and locating Docket No. FAA-2017-0480.

Comment

We gave the public the opportunity to participate in developing this AD. The following presents the comment received on the NPRM and the FAA's response to that comment.

Request To Clarify Terminating Action

United Parcel Service (UPS) requested that the terminating action specified in paragraph (i) of the proposed AD be clarified to specify that the repair of a damaged fitting is terminating action for the repetitive inspections specified in paragraph (g) of the proposed AD for the repaired fitting location only. The commenter stated that this clarification would mitigate premature termination of repetitive inspections of the aft cargo door lower torsion box area.

We agree with the commenter's request for the reasons provided by the commenter. We have revised paragraph (i) of this AD to specify that repair of a lock fitting as required by paragraph (h) of this AD constitutes terminating action for the repetitive inspections required by paragraph (g) of this AD for the repaired fitting location only.

Conclusion

We reviewed the relevant data, considered the comment received, and determined that air safety and the public interest require adopting this AD with the change described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

We reviewed Airbus Service Bulletin A300-53-6185, dated February 11, 2016; and Service Bulletin A310-53-2143, dated February 11, 2016; which describe, among other actions, repetitive inspections of the aft cargo door sill area for cracking. These documents are distinct since they apply to different airplane models. This service information is reasonably available because the interested parties have access to it through their normal course of business or by the means identified in the ADDRESSES section.

Costs of Compliance

We estimate that this AD affects 18 airplanes of U.S. registry.

We estimate the following costs to comply with this AD:

Estimated Costs
Action | Labor cost | Parts cost | Cost per product | Cost on U.S. operators
Inspection | 12 work-hours × $85 per hour = $1,020 per inspection cycle | $0 | $1,020 per inspection cycle | $18,360 per inspection cycle.

We have received no definitive data that will enable us to provide a cost estimate for the on-condition corrective actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-21-02 Airbus: Amendment 39-19073; Docket No. FAA-2017-0480; Product Identifier 2016-NM-204-AD.

(a) Effective Date

This AD is effective November 27, 2017.

(b) Affected ADs

None.

(c) Applicability

This AD applies to the Airbus airplanes identified in paragraphs (c)(1), (c)(2), (c)(3), (c)(4), and (c)(5) of this AD; certificated in any category; except those on which Airbus Modification 5438 was embodied in production.

(1) Model A300 B4-601, B4-603, B4-620, and B4-622 airplanes.

(2) Model A300 B4-605R and B4-622R airplanes.

(3) Model A300 F4-605R and F4-622R airplanes.

(4) Model A300 C4-605R Variant F airplanes.

(5) Model A310-203, -204, -221, -222, -304, -322, -324, and -325 airplanes.

(d) Subject

Air Transport Association (ATA) of America Code 53, Fuselage.

(e) Reason

This AD was prompted by a report of cracking in the door sill area of the aft cargo door. We are issuing this AD to detect and correct cracking of the door sill area of the aft cargo; such cracking could adversely affect the structural integrity of the airplane.

(f) Compliance

Comply with this AD within the compliance times specified, unless already done.

(g) Repetitive Inspections

Within the applicable compliance time specified in table 1 to paragraph (g) of this AD: Do a high frequency eddy current (HFEC) inspection for cracking of the door sill area (including the sill beam flag, lock fitting, door sill web, and torsion door panel) of the aft cargo door lower torsion box area, in accordance with the Accomplishment Instructions of Airbus Service Bulletin A300-53-6185, dated February 11, 2016; or Service Bulletin A310-53-2143, dated February 11, 2016; as applicable. Repeat the HFEC inspection thereafter at intervals not to exceed 15,100 flight cycles.

Table 1 to Paragraph (g) of This AD—Initial Inspection
Airplane configuration | Compliance time
Repaired (date known), post-Airbus Modification 10319 lock fittings installed using Airbus Structural Repair Manual (SRM) Task 51-72-00 | Before exceeding 25,800 flight cycles since the lock fitting replacement.
Repaired (no record, date unknown), post-Airbus Modification 10319 lock fittings installed using Airbus SRM Task 51-72-00 | Before exceeding 25,800 flight cycles from November 1, 1996.
Non-repaired airplane, or airplane repaired with pre-Airbus Modification 10319 lock fittings using Airbus SRM Task 51-72-00 | No inspection required.

(h) Corrective Action

If any crack is found during any inspection required by paragraph (g) of this AD: Before further flight, repair in accordance with the Accomplishment Instructions of Airbus Service Bulletin A300-53-6185, dated February 11, 2016; or Service Bulletin A310-53-2143, dated February 11, 2016; as applicable; except, where Airbus Service Bulletin A300-53-6185, dated February 11, 2016; or Service Bulletin A310-53-2143, dated February 11, 2016; specifies to contact Airbus for appropriate action, and specifies that action as “RC” (Required for Compliance), before further flight, accomplish corrective actions in accordance with the procedures specified in paragraph (j)(2) of this AD.

(i) Terminating Action

Repair of a lock fitting as required by paragraph (h) of this AD constitutes terminating action for the repetitive inspections required by paragraph (g) of this AD for the repaired fitting location only. All other post-Airbus Modification 10319 installed fittings are to be inspected as required by paragraph (g) of this AD.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the manager of the International Section, send it to the attention of the person identified in paragraph (k)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Airbus's EASA Design Organization Approval (DOA). If approved by the DOA, the approval must include the DOA-authorized signature.

(3) Required for Compliance (RC): Except as required by paragraph (h) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) Refer to Mandatory Continuing Airworthiness Information (MCAI) EASA AD 2016-0241, dated December 6, 2016, for related information. This MCAI may be found in the AD docket on the Internet at http://www.regulations.gov by searching for and locating Docket No. FAA-2017-0480.

(2) For more information about this AD, contact Dan Rodina, Aerospace Engineer, International Section, Transport Standards Branch, FAA, 1601 Lind Avenue SW., Renton, WA 98057-3356; telephone 425-227-2125; fax 425-227-1149.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A300-53-6185, dated February 11, 2016.

(ii) Airbus Service Bulletin A310-53-2143, dated February 11, 2016.

(3) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(4) You may view this service information at the FAA, Transport Standards Branch, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on October 11, 2017.
Dionne Palermo,
Acting Director, System Oversight Division, Aircraft Certification Service.

[FR Doc. 2017-22563 Filed 10-20-17; 8:45 am]

BILLING CODE 4910-13-P